DEPARTMENT OF ENERGY

Federal Energy Regulatory Commission

Combined Notice of Filings #1

August 27, 2009.

Take notice that the Commission received the following electric rate filings:

Docket Numbers: ER00-115-010; ER00-3562-011; ER06-755-005; ER03-342-007; ER02-2227-009; ER02-600-010; ER99-1983-008; ER01-2688-012; ER01-2887-009; ER02-2229-008; ER03-24-008; ER03-838-008; ER05-67-005; ER05-68-005; ER06-756-005; ER09-71-002;

Applicants: Calpine Energy Services, L.P., South Point Energy Center, LLC, Delta Energy Center, LLC, Calpine Construction Finance Company, LP, Otay Mesa Energy Center, LLC, Pastoria Energy Center, LLC, Metcalf Energy Center, LLC, Los Medanos Energy Center LLC, Goose Haven Energy Center, LLC, Gilroy Energy Center, LLC, Creed Energy Center, LLC, Calpine Gilroy Cogen, L.P., Power Contract Financing, L.L.C., LOS ESTEROS CRITICAL ENERGY CENTER, LLC, Geysers Power Company, Calpine PowerAmerica L.P.

Description: Notification of Change in Status of Calpine Construction Finance Company, L.P., et al.

Filed Date: 08/24/2009

Accession Number: 20090824-5136.

Comment Date: 5 p.m. Eastern Time on Monday, September 14, 2009.

Docket Numbers: ER09-1367-001.

Applicants: MidAmerican Energy Company.

Description: MidAmerican Energy Co. submits a substitute to the 6/29/09 Facilities Agreement with ITC Midwest, LLC.

Filed Date: 08/27/2009.

Accession Number: 20090827-0052.

Comment Date: 5 p.m. Eastern Time on Thursday, September 17, 2009.

Docket Numbers: ER09-1535-001.

Applicants: Berkshire Power Company, LLC.

Description: Berkshire Power Company, LLC submits Original Sheet 1 et al. to First Revised Rate Schedule FERC No 2.

Filed Date: 08/25/2009.

Accession Number: 20090826-0055.

Comment Date: 5 p.m. Eastern Time on Friday, September 4, 2009.

Docket Numbers: ER09-1548-001.

Applicants: Midwest Independent Transmission System Operator, Inc.

Description: Midwest Independent Transmission System Operator, Inc. submits Notice of Succession of Certain Transmission Service Agreements and Network Integration Transmission Service and Operating Agreements.

Filed Date: 08/24/2009.

Accession Number: 20090825-0056.

Comment Date: 5 p.m. Eastern Time on Monday, September 14, 2009.

Docket Numbers: ER09-1549-000.

Applicants: First Wind Energy Marketing, LLC.

Description: Application of First Wind Energy Marketing, LLC for order accepting initial market-based rate tariff, waiving regulations, and granting blanket approvals.

Filed Date: 08/26/2009.

Accession Number: 20090827-0094.

Comment Date: 5 p.m. Eastern Time on Wednesday, September 16, 2009.

Docket Numbers: ER09-1605-000.

Applicants: Silver Sage Windpower, LLC.

Description: Application of Silver Sage Windpower, LLC for market-based rate authority.

Filed Date: 08/25/2009.

Accession Number: 20090826-0064.

Comment Date: 5 p.m. Eastern Time on Tuesday, September 15, 2009.

Docket Numbers: ER09-1622-000.

Applicants: Pacific Gas and Electric Company.

Description: Pacific Gas and Electric Company submit amendment to extend agreements for whole distribution service and interconnection executed between PG&E and Shelter Cove Resort Improvement District No. 1.

Filed Date: 08/25/2009.

Accession Number: 20090825-0087.

Comment Date: 5 p.m. Eastern Time on Tuesday, September 15, 2009.

Docket Numbers: ER09-1623-000.

Applicants: Carolina Power & Light Company.

Description: Carolina Power & Light Co submits a Power Supply and Coordination Agreement.

Filed Date: 08/25/2009.

Accession Number: 20090825-0094.

Comment Date: 5 p.m. Eastern Time on Tuesday, September 15, 2009.

Docket Numbers: ER09-1624-000.

Applicants: Black Creek Hydro, Inc.

Description: Black Creek Hydro, Inc. submits an Agreement for Power Sale, dated 7/1/09 entered into by and between Black Creek Hydro and Avista Corporation.

Filed Date: 08/25/2009.

Accession Number: 20090825-0093.

Comment Date: 5 p.m. Eastern Time on Tuesday, September 15, 2009.

Docket Numbers: ER09-1625-000.

Applicants: Virginia Electric and Power Company.

Description: Virginia Electric and Power Company submits revised cover sheet to cancel a Standard Large Generator Interconnection Agreement with Dominion Virginia Power, effective 8/18/09.

Filed Date: 08/25/2009.

Accession Number: 20090825-0092.

Comment Date: 5 p.m. Eastern Time on Tuesday, September 15, 2009.

Docket Numbers: ER09-1626-000.

Applicants: PacifiCorp.

Description: PacifiCorp submits a Notice of Cancellation for Service Agreement No. 345.

Filed Date: 08/25/2009.

Accession Number: 20090826-0054.

Comment Date: 5 p.m. Eastern Time on Tuesday, September 15, 2009.

Docket Numbers: ER09-1627-000.

Applicants: Black Hills Wyoming, LLC.

Description: Black Hills Wyoming, LLC submits Electric Rate Schedule FERC No. 3.

Filed Date: 08/25/2009.

Accession Number: 20090826-0053.

Comment Date: 5 p.m. Eastern Time on Tuesday, September 15, 2009.

Docket Numbers: ER09-1628-000.

Applicants: PacifiCorp.

Description: PacifiCorp submits a Large Generator Interconnection Agreement Facilities Maintenance Agreement.

Filed Date: 08/25/2009.

Accession Number: 20090826-0052.

Comment Date: 5 p.m. Eastern Time on Tuesday, September 15, 2009.

Docket Numbers: ER09-1629-000.

Applicants: PacifiCorp.

Description: PacfiCorp submits a Large Generator Interconnection Agreement.

Filed Date: 08/25/2009.

Accession Number: 20090826-0051.

Comment Date: 5 p.m. Eastern Time on Tuesday, September 15, 2009.

Docket Numbers: ER09-1630-000.

Applicants: California Independent System Operator Corporation.

Description: The California Independent System Operator Corp submits a revised Adjacent Balancing Authority Operating Agreement and a letter agreement with BPA Power Services etc.

Filed Date: 08/25/2009.

Accession Number: 20090826-0065.

Comment Date: 5 p.m. Eastern Time on Tuesday, September 15, 2009.

Docket Numbers: ER09-1631-000.

Applicants: PJM Interconnection L.L.C.

Description: PJM Interconnection, LLC submits an executed Wholesale Market Participation, Agreement entered into among PJM, et al. executed on 7/31/09.

Filed Date: 08/26/2009.

Accession Number: 20090826-0062.

Comment Date: 5 p.m. Eastern Time on Wednesday, September 16, 2009.

Docket Numbers: ER09-1632-000.

Applicants: PJM Interconnection, L.L.C.

Description: PJM Interconnection, LLC submits an executed Wholesale Market Participation Agreement entered into among PJM, et al. executed on 7/28/09.

Filed Date: 08/26/2009.

Accession Number: 20090826-0061.

Comment Date: 5 p.m. Eastern Time on Wednesday, September 16, 2009.

Docket Numbers: ER09-1633-000.

Applicants: PacifiCorp.

Description: PacifiCorp submits transmission system interconnection agreement between Bonneville Power Administration and PacifiCorp.

Filed Date: 08/26/2009.

Accession Number: 20090827-0051.

Comment Date: 5 p.m. Eastern Time on Wednesday, September 16, 2009.

Docket Numbers: ER09-1634-000.

Applicants: Midwest Independent Transmission System Operator, Inc.

Description: Midwest Independent Transmission System Operator, Inc submits adjacent balancing authority coordination agreement with the Omaha Public Power District.

Filed Date: 08/26/2009.

Accession Number: 20090827-0053.

Comment Date: 5 p.m. Eastern Time on Wednesday, September 16, 2009.

Docket Numbers: ER09-1635-000.

Applicants: Allegheny Power & Trans-Allegheny Inters.

Description: Allegheny Power et al. submits an Interconnection Agreement with TrAILCO dated as of 8/26/09 designated as Original Service Agreement 2149 under FERC Electric Tariff, Sixth Revised Volume 1, effective 10/26/09.

Filed Date: 08/26/2009.

Accession Number: 20090827-0056.

Comment Date: 5 p.m. Eastern Time on Wednesday, September 16, 2009.

Docket Numbers: ER09-1636-000.

Applicants: Midwest Independent Transmission System Operator, Inc.

Description: Midwest Independent Transmission System Operator, Inc et al. submits proposed revisions to Attachment O of their Open Access Transmission, Energy and Operating Reserve Markets Tariffs, to be effective 9/1/09.

Filed Date: 08/26/2009.

Accession Number: 20090827-0057.

Comment Date: 5 p.m. Eastern Time on Wednesday, September 16, 2009.

Docket Numbers: ER09-1637-000.

Applicants: Midwest Independent Transmission System Operator, Inc.

Description: Midwest Independent Transmission System Operator, Inc et al. submits revisions to Attachment O of their Open Access Transmission, Energy and Operating Reserve Markets Tariff.

Filed Date: 08/26/2009.

Accession Number: 20090827-0054.

Comment Date: 5 p.m. Eastern Time on Wednesday, September 16, 2009.

Docket Numbers: ER09-1638-000.

Applicants: PJM Interconnection, L.L.C.

Description: PJM Interconnection, LLC submits an executed interim Interconnection Service Agreement with FPL Energy Illinois Wind, LLC et al.

Filed Date: 08/26/2009.

Accession Number: 20090827-0055.

Comment Date: 5 p.m. Eastern Time on Wednesday, September 16, 2009.

Docket Numbers: ER09-1639-000.

Applicants: PJM Interconnection, L.L.C.

Description: PJM Interconnection, LLC submits Original Service Agreement 2275 to FERC Gas Tariff, Sixth Revised Volume 1 under ER09-1639.

Filed Date: 08/27/2009.

Accession Number: 20090827-0090.

Comment Date: 5 p.m. Eastern Time on Thursday, September 17, 2009.

Take notice that the Commission received the following electric securities filings:

Docket Numbers: ES09-48-000.

Applicants: El Paso Electric Company.

Description: Application of El Paso Electric Company for Authorization under Section 204 of the Federal Power Act regarding a Revolving Credit Facility.

Filed Date: 08/25/2009.

Accession Number: 20090825-5040.

Comment Date: 5 p.m. Eastern Time on Tuesday, September 15, 2009.

Take notice that the Commission received the following electric reliability filings:

Docket Numbers: RR09-9-000; RR07-14-004; RR08-6-004.

Applicants: North American Electric Reliability Corp.

Description: Request of the North American Electric Reliability Corporation for Acceptance of its 2010 Business Plan and Budget and the 2010 Business Plans and Budgets.

Filed Date: 08/24/2009.

Accession Number: 20090824-5073.

Comment Date: 5 p.m. Eastern Time on Monday, September 14, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Kimberly D. Bose,
Secretary.

[FR Doc. E9-21237 Filed 9-2-09; 8:45 am]

BILLING CODE 6717-01-P